NUCLEAR REGULATORY COMMISSION

[NRC-2021-0096]

Control of Heavy Loads at Nuclear Facilities

AGENCY: Nuclear Regulatory Commission.

ACTION: Regulatory guide; issuance.

SUMMARY: The U.S. Nuclear Regulatory Commission (NRC) is issuing Regulatory Guide (RG) 1.244 (Revision 0), “Control of Heavy Loads at Nuclear Facilities.” RG 1.244 is a new regulatory guide to endorse selected national consensus standards related to heavy load handling that replace NRC technical reports. The national consensus standards provide greater flexibility in the selection of lifting equipment and have incorporated recent operating experience to provide a more accurate risk-informed perspective of heavy load handling activities.

DATES: Revision 0 to RG 1.244 is available on December 21, 2021.

ADDRESSES: Please refer to Docket ID NRC-2021-0096 when contacting the NRC about the availability of information regarding this document. You may obtain publicly available information related to this document using any of the following methods:

• Federal Rulemaking website: Go to https://www.regulations.gov and search for Docket ID NRC-2021-0096. Address questions about Docket IDs in Regulations.gov to Stacy Schumann; telephone: 301-415-0624; email: Stacy.Schumann@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. (ET), Monday through Friday, except Federal holidays.

Revision 0 to RG 1.244 and the regulatory analysis may be found in ADAMS under Accession Nos. ML21006A346 and ML21006A337, respectively.

Regulatory guides are not copyrighted, and NRC approval is not required to reproduce them.

FOR FURTHER INFORMATION CONTACT: Steven R. Jones, Office of Nuclear Reactor Regulation, telephone: 301-415-2712, email: Steve.Jones@nrc.gov; or Stanley Gardocki, Office of Nuclear Regulatory Research, telephone: 301-415-1067, email: Stanley.Gardocki@nrc.gov. Both are staff members at the U.S. Nuclear Regulatory Commission, Washington, DC 20555-0001.

SUPPLEMENTARY INFORMATION:

I. Discussion

The NRC is issuing a new guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

RG 1.244 was issued with a temporary identification of Draft Regulatory Guide, DG-1381, ADAMS Accession No, ML21006A335.

II. Additional Information

The NRC published a notice of the availability of DG-1381 in the Federal Register on May 5, 2021 (86 FR 23750) for a 30-day public comment period. The public comment period was extended and closed on July 5, 2021. Public comments and the staff responses to the public comments on DG-1381 are available in ADAMS under Accession No. ML21244A455.

This new regulatory guide provides guidance for control of heavy loads at nuclear facilities to provide reasonable assurance safety functions would be accomplished following handling system equipment failure. The NRC has provided guidance in technical reports NUREG-0612, “Control of Heavy Loads in Nuclear Power Plants,” dated August 1980 (ADAMS Accession No. ML070250180) and NUREG-0554, “Single Failure-Proof Cranes for Nuclear Power Plants,” dated May 1979 (ADAMS Accession No. ML110450636). However, this guidance has not been updated and does not reflect a current risk-informed perspective regarding heavy load handling activities. To provide updated guidance, the NRC is issuing RG 1.244 which endorses, with clarifications, the following consensus standards:

• American Society of Mechanical Engineers (ASME) Standard (Std.) NML-1, “Rules for the Movement of Loads Using Overhead Handling Equipment in Nuclear Facilities,” 2019.

• ASME Std. NOG-1, “Rules for Construction of Overhead and Gantry Cranes (Top Running Bridge, Multiple Girder),” 2020.

• ASME Std. BTH-1, “Design of Below-the-Hook Lifting Devices,” 2017, Chapters 1 through 3.

The use of consensus standards where available is consistent with NRC Commission Policy and provides updated information reflecting operating experience.

III. Congressional Review Act

This RG is a rule as defined in the Congressional Review Act (5 U.S.C. 801-808). However, the Office of Management and Budget has not found it to be a major rule as defined in the Congressional Review Act.

IV. Backfitting, Forward Fitting, and Issue Finality

Issuance of this RG does not constitute backfitting as defined in Section 50.109 of title 10 of the Code of Federal Regulations (10 CFR), “Backfitting,” and as described in NRC Management Directive (MD) 8.4, “Management of Backfitting, Forward Fitting, Issue Finality, and Information Requests”; constitute forward fitting as that term is defined and described in MD 8.4; or affect issue finality of any approval issued under 10 CFR part 52, “Licenses, Certificates, and Approvals for Nuclear Power Plants.” As explained in this regulatory guide, applicants and licensees are not required to comply with the positions set forth in this regulatory guide.

Dated: December 15, 2021.
For the Nuclear Regulatory Commission.
Meraj Rahimi,
Branch Chief, Regulatory Guide and Programs Management Branch, Division of Engineering, Office of Nuclear Regulatory Research.

[FR Doc. 2021-27550 Filed 12-20-21; 8:45 am]

BILLING CODE 7590-01-P